DEPARTMENT OF HEALTH AND HUMAN SERVICES

Centers for Disease Control and Prevention

Disease, Disability, and Injury Prevention and Control Special Emphasis Panel (SEP): NORA: RFA OH-01-007: Community-Based Interventions to Prevent Childhood Agricultural Injury and Disease

In accordance with section 10(a)(2) of the Federal Advisory Committee Act (Pub. L. 92-463), the Centers for Disease Control and Prevention (CDC) announces the following meeting:

Name: Disease, Disability, and Injury Prevention and Control Special Emphasis Panel (SEP) NORA: RFA OH-01-007: Community-Based Interventions to Prevent Childhood Agricultural Injury and Disease.

Times and Dates: 5 p.m.-5:30 p.m., May 15, 2001. (Open); 5:30 p.m.-9 p.m., May 15, 2001. (Closed); 8 a.m.-5 p.m., May 16, 2001. (Closed).

Place: State Plaza Hotel, 2117 E. State Street, NW, Washington, DC 20037.

Status: Portions of the meeting will be closed to the public in accordance with provisions set forth in section 552b(c) (4) and (6), Title 5 U.S.C., and the Determination of the Deputy Director for Program Management, CDC, pursuant to Public Law 92-463.

Matters to be Discussed: The meeting will include the review, discussion, and evaluation of applications received in response to Program Announcement NORA: RFA OH-01-007.

Contact Person for More Information: Gwendolyn H. Cattledge, Ph.D., Office of Extramural Programs, National Institute for Occupational Safety and Health, CDC, 1600 Clifton Rd, NE, M/S D28, Atlanta, Georgia 30333, telephone 404-639-2378.

The Director, Management Analysis and Services Office has been delegated the authority to sign Federal Register notices pertaining to announcements of meetings and other committee management activities, for both the Centers for Disease Control and Prevention and the Agency for Toxic Substances and Disease Registry.

Dated: April 12, 2001.
Carolyn J. Russell,
Director, Management Analysis and Services Office, Centers for Disease Control and Prevention (CDC).

[FR Doc. 01-10057 Filed 4-23-01; 8:45 am]

BILLING CODE 4163-19-P